DEPARTMENT OF COMMERCE

Foreign-Trade Zones Board

[B-6-2022]

Foreign-Trade Zone (FTZ) 43—Battle Creek, Michigan, Authorization of Production Activity, Pfizer, Inc. (Nirmatrelvir Active Pharmaceutical Ingredient for COVID-19 Treatment), Kalamazoo, Michigan

On February 22, 2022, Pfizer, Inc. submitted a notification of proposed production activity to the FTZ Board for its facility within Subzone 43E, in Kalamazoo, Michigan.

The notification was processed in accordance with the regulations of the FTZ Board (15 CFR part 400), including notice in the Federal Register inviting public comment (87 FR 11410, March 1, 2022). On June 22, 2022, the applicant was notified of the FTZ Board's decision that no further review of the activity is warranted at this time. The production activity described in the notification was authorized, subject to the FTZ Act and the FTZ Board's regulations, including Section 400.14.

Dated: June 22, 2022.
Andrew McGilvray,
Executive Secretary.

[FR Doc. 2022-13662 Filed 6-24-22; 8:45 am]

BILLING CODE 3510-DS-P